DEPARTMENT OF ENERGY

Federal Energy Regulatory Commission

[P-2601-007—North Carolina; P-2602-007—North Carolina; P-2686-032—North Carolina; P-2698-033—North Carolina]

Duke Power Company, LLC; Notice of Intention To Hold a Public Meeting To Discuss the Draft Environmental Assessment for the Tuckasegee Hydroelectric Projects

May 17, 2006.

On May 10, 2006, the Federal Energy Regulatory Commission (Commission) staff issued a Draft Environmental Assessment (DEA) for the relicensing of the Bryson, East Fork, and West Fork Hydroelectric Projects and for the surrender of the Dillsboro Hydroelectric Project.

The DEA was noticed in the Federal Register on May 17, 2006, and comments are due June 9, 2006. The DEA evaluates the environmental consequences of the operation and maintenance of the Tuckasegee Hydroelectric Projects in North Carolina. The DEA also evaluates the environmental effects of implementing the applicant's proposals, agency and non-governmental organization recommendations, staff's modifications, and the no-action alternative.

A public meeting is scheduled for Thursday, June 8, 2006, from 6 p.m. to 9 p.m. at the Jackson County Justice and Administration Building, Courtroom #2, 401 Grindstaff Cove Road; Sylva, NC 28779.

At this meeting, resource agency personnel and other interested persons will have the opportunity to provide oral and written comments and recommendations regarding the DEA for the Commission's public record. These meetings will be recorded by an official stenographer.

For further information, please contact Carolyn Holsopple at (202) 502-6407, or by e-mail at carolyn.holsopple@ferc.gov.

Magalie R. Salas,
Secretary.

[FR Doc. E6-7898 Filed 5-23-06; 8:45 am]

BILLING CODE 6717-01-P